DEPARTMENT OF THE INTERIOR

National Park Service

[8896-SZM]

Kalaupapa Federal Advisory Commission Meeting, July 26, 2011

AGENCY: National Park Service, Interior.

ACTION: Meeting Notice.

SUMMARY: This notice sets the date of July 26, 2011, meeting of the Kalaupapa Federal Advisory Commission.

DATES: The public meeting of the Kalaupapa Federal Advisory Commission will be held on Tuesday, July 26, 2011, at 9 a.m. (Hawaii Standard Time)

ADDRESSES: Location: The meeting will be held at McVeigh Social Hall, Kalaupapa National Historical Park, Kalaupapa, Hawaii 96742.

Agenda

The July 26, 2011, Commission meeting will consist of the following:

1. Superintendent's Report.

2. General Management Plan (GMP) Update.

3. Commercial Air Service Status at Kalaupapa.

4. Memorial Project Update.

5. Kalaupapa Fire Management Plan Update.

6. Public Comments.

FOR FURTHER INFORMATION CONTACT: Further information concerning this meeting may be obtained from the Superintendent, Kalaupapa National Historical Park, P.O. Box 2222, Kalaupapa, Hawaii 96742, telephone (808) 567-6802 x 1100.

SUPPLEMENTARY INFORMATION: The meeting is open to the public. Interested persons may make oral/written presentations to the Commission or file written statements. Such requests should be made to the Superintendent at least seven days prior to the meeting. Before including your address, phone number, e-mail address, or other personal identifying information in your comment, you should be aware that your entire comment—including your personal identifying information—may be made publicly available at any time. While you can ask us in your comment to withhold your personal identifying information from public review, we cannot guarantee that we will be able to do so.

Dated: June 14, 2011.
Stephen Prokop,
Superintendent, Kalaupapa National Historical Park.

[FR Doc. 2011-17779 Filed 7-13-11; 8:45 am]

BILLING CODE 4132-GJ-P